DEPARTMENT OF TRANSPORTATION

Federal Motor Carrier Safety Administration

[Docket No. FMCSA-2018-0118]

Agency Information Collection Activities; Revision of an Approved Information Collection: Inspection, Repair and Maintenance

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The information collection concerns records of inspection, repair, and maintenance of commercial motor vehicles (CMVs). The FMCSA requests approval to revise and renew an ICR entitled, “Inspection, Repair and Maintenance.” FMCSA collects this information to ensure that motor carriers have adequate documentation of their inspection, repair, and maintenance programs necessary to reduce the likelihood of CMV crashes.

DATES: Please send your comments by July 23, 2018. OMB must receive your comments by this date in order to act quickly on the ICR.

ADDRESSES: All comments should reference Federal Docket Management System (FDMS) Docket Number FMCSA-2018-0118. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Mr. Mike Huntley, Vehicle and Roadside Operations Division, Department of Transportation, Federal Motor Carrier Safety Administration, West Building 6th Floor, 1200 New Jersey Avenue SE, Washington, DC 20590. Telephone: 202-366-9209; email michael.huntley@dot.gov. Office hours are from 9 a.m. to 5 p.m., Monday through Friday, except Federal Holidays.

SUPPLEMENTARY INFORMATION: Title: Inspection, Repair and Maintenance.

OMB Control Number: 2126-0003.

Type of Request: Revision of a currently approved information collection.

Respondents: Motor carriers and commercial motor vehicle drivers.

Estimated Number of Respondents: 543,061 motor carriers and 5,739,712 drivers.

Estimated Time per Response: Varies according to the requirements for specific records.

Expiration Date: July 31, 2018.

Frequency of Response: Varies according to requirements for specific records.

Estimated Total Annual Burden: 13,791,001 hours [7,558,390 hours for inspection, repair, and maintenance + 5,536,622 hours for driver vehicle inspection reports + 194,586 hours for disposition of roadside inspection reports + 469,414 hours for periodic inspections + 16,904 hours for records of inspector qualifications + 15,085 hours for records of brake inspector qualifications].

Background: The Secretary of Transportation (Secretary) is authorized under the provisions of 49 U.S.C. 31502 to prescribe requirements for, among other things, safety of operations of equipment of motor carriers that operate CMVs in interstate commerce. Under 49 U.S.C. 31136, the Secretary also has authority to prescribe regulations to ensure that CMVs are maintained, equipped, loaded and operated safely. And under 49 U.S.C. 31142 the Secretary must establish standards for annual or more frequent inspections of CMVs. The Secretary's authority to establish improved standards or methods to ensure brakes and brake systems of CMVs are inspected by appropriate employees and maintained properly is provided under 49 U.S.C. 31137(g).

Motor carriers must maintain, or require maintenance of, records documenting the inspection, repair and maintenance activities performed on their owned and leased vehicles. There are no prescribed forms. Electronic recordkeeping is allowed (see 49 CFR 390.31(d)). Documents requiring a signature must be capable of replication (i.e., photocopy, facsimile, etc.) in such form that will provide an opportunity for signature verification upon demand. Also, if electronic recordkeeping is used, all of the relevant data on the original documents must be included in the electronic transmission for the records to be valid.

The motor carrier industry has never questioned the need to keep CMV maintenance records. In fact, most motor carriers would keep some records without any regulatory requirements to do so. Records of inspection, repair, and maintenance; roadside inspection reports; driver vehicle inspection reports; the documentation of periodic inspections; the evidence of the qualifications of individuals performing periodic inspections; and the evidence of brake inspectors' qualifications contain the minimum amount of information necessary to document that a motor carrier has established a system of inspection, repair, and maintenance for its equipment which meets the standards in 49 CFR part 396.

FMCSA and its representatives use these records to verify motor carriers' compliance with the inspection, repair, and maintenance standards in part 396. This ICR supports the Department of Transportation's strategic goal of safety. The ICR also ensures that motor carriers have adequate records to document the inspection, repair, and maintenance of their CMVs, and to ensure that adequate measures are taken to keep their CMVs in safe and proper operating condition at all times. Compliance with the inspection, repair, and maintenance regulations helps to reduce the likelihood of accidents attributable, in whole or in part, to the mechanical condition of the CMV.

The Agency does not intend to revise the substantive contents of this information collection, the frequency of information collection, or how it uses the information. Because the previous four updates to this information collection were developed in conjunction with rulemaking actions, only those sections of the information collection affected by the specific rulemaking changes were amended during the previous four updates and a comprehensive update of the information collection has not been done since 2006. This renewal includes updated data regarding the number of motor carriers subject to the Federal Motor Carrier Safety Regulations, vehicle counts, inspections, and other underlying data used to estimate the total burden hours. In addition, this revision corrects the manner in which: (1) The burden associated with routine inspection, repair and maintenance records is calculated, by including non-powered CMVs in addition to power units; and (2) the burden associated with periodic inspection records is calculated, by using only the records associated with the once-per-year inspection conducted in accordance with 49 CFR Chapter III, Subchapter B, Appendix G. Finally, this revision corrects the calculation of the burden associated with Driver-Vehicle Inspection Reports (DVIRs) by including the 30 seconds required for motor carrier certification of corrective action for defect DVIRs that was inadvertently omitted in the calculation of this estimate in the December 2014 No-Defect DVIR rule.

If the recordkeeping were required to be completed less frequently, it would greatly hinder the ability of FMCSA and State officials and representatives to ascertain that CMVs are satisfactorily maintained. The timely documentation of CMV inspection, repair, and maintenance enables FMCSA and State officials to evaluate the present state of a motor carrier's CMV maintenance program and to check the current level of regulatory compliance at any point in a carrier's maintenance schedule or program.

The FMCSA has identified periodic inspection standards of 22 States, the District of Columbia, the Alabama Liquefied Petroleum Gas Board, 10 Canadian Provinces, and one Canadian Territory that are comparable to, or as effective as, the Federal periodic inspection requirements. The FMCSA does not require Federal periodic inspections and the related recordkeeping for motor carriers that comply with these equivalent periodic inspection programs. The FMCSA is not aware of any other duplicative standards or recordkeeping requirements that apply to motor carriers.

The FMCSA does not employ this collection of information for statistical use.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: June 15, 2018.
G. Kelly Regal,
Associate Administrator for Office of Research and Information Technology.

[FR Doc. 2018-13319 Filed 6-20-18; 8:45 am]

BILLING CODE 4910-EX-P